DEPARTMENT OF ENERGY

Federal Energy Regulatory Commission

[Project No. 11428-000; Michigan]

Municipal Dam Hydro Project; Notice of Availability of Draft Environmental Assessment

July 13, 2001.

In accordance with the National Environmental Policy Act of 1969 and the Federal Energy Regulatory Commission's (Commission) regulations, 18 CFR Part 380 (Order No. 486, 52 FR 47897), the Office of Energy Projects has reviewed the application for license for the Municipal Dam Hydroelectric Project, located on the Pine River in Gratiot County, Michigan, and has prepared a Draft Environmental Assessment (DEA) for the project.

Copies of the DEA are available for review at the Commission's Public Reference Room, located at 888 First Street, NE., Washington, DC 20426, or by calling (202) 208-1371. The DEA may be viewed on the web at http://www.ferc.gov using the “RIMS” link, select “Docket#” and follow the instructions (call 202-208-2222 for assistance).

Any comments (an original and 8 copies) should be filed within 45 days from the date of this notice and should be addressed to David P. Boergers, Secretary, Federal Energy Regulatory Commission, 888 First Street, NE., Washington, DC 20426. Comments, protests and interventions may be filed electronically via the internet in lieu of paper. See, 18 CFR 385.2001(a)(1)(iii) and the instructions on the Commission's web site under the “e-Filing” link. For further information, contact Susan O'Brien at (202) 219-2840 or susan.obrien@ferc.fed.us.

David P. Boergers,
Secretary.

[FR Doc. 01-18028 Filed 7-18-01; 8:45 am]

BILLING CODE 6717-01-P